DEPARTMENT OF ENERGY

Federal Energy Regulatory Commission

Combined Notice of Filings #2

Take notice that the Commission received the following electric rate filings:

Docket Numbers: ER13-2378-001.

Applicants: Midcontinent Independent System Operator, Inc.

Description: Midcontinent Independent System Operator, Inc. submits 12-11-2013 SA 2536 J238 Deficiency Response to be effective 9/14/2013.

Filed Date: 12/11/13.

Accession Number: 20131211-5051.

Comments Due: 5 p.m. ET 1/2/14.

Docket Numbers: ER14-592-000.

Applicants: Southwest Power Pool, Inc.

Description: Southwest Power Pool, Inc. submits 2633 Oklahoma Municipal Power Authority GIA to be effective 11/15/2013.

Filed Date: 12/11/13.

Accession Number: 20131211-5075.

Comments Due: 5 p.m. ET 1/2/14.

Docket Numbers: ER14-593-000.

Applicants: AEP Energy Partners, Inc.

Description: AEP Energy Partners, Inc. submits AEP Energy Partners MBR Waiver to be effective 2/10/2014.

Filed Date: 12/11/13.

Accession Number: 20131211-5112.

Comments Due: 5 p.m. ET 1/2/14.

Docket Numbers: ER14-594-000.

Applicants: Ohio Power Company.

Description: Ohio Power Company submits Ohio Power Company MBR Tariff Filing to be effective 2/10/2014.

Filed Date: 12/11/13.

Accession Number: 20131211-5113.

Comments Due: 5 p.m. ET 1/2/14.

Docket Numbers: ER14-595-000.

Applicants: Ohio Power Company.

Description: Ohio Power Company submits Cancellation of Ohio Power's MBR Baseline Concurrence—AEP Op Co Tariff to be effective 2/14/2014.

Filed Date: 12/11/13.

Accession Number: 20131211-5114.

Comments Due: 5 p.m. ET 1/2/14.

Take notice that the Commission received the following electric securities filings:

Docket Numbers: ES14-17-000.

Applicants: Prairie Wind Transmission, LLC.

Description: Application under Section 204 of Prairie Wind Transmission, LLC.

Filed Date: 12/11/13.

Accession Number: 20131211-5139.

Comments Due: 5 p.m. ET 1/2/14.

Take notice that the Commission received the following open access transmission tariff filings:

Docket Numbers: OA14-1-000.

Applicants: Arizona Solar One LLC.

Description: Application for Waivers of Order Nos. 888, 889 & 890 and Standards of Conduct under Part 358 of Commission regulations of Arizona Solar One LLC.

Filed Date: 12/11/13.

Accession Number: 20131211-5123.

Comments Due: 5 p.m. ET 1/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2013.
Nathaniel J. Davis, Sr.,
Deputy Secretary.

[FR Doc. 2013-30096 Filed 12-17-13; 8:45 am]

BILLING CODE 6717-01-P